DEPARTMENT OF COMMERCE

National Oceanic and Atmospheric Administration

RIN 0648-XA412

Marine Fisheries Advisory Committee Meeting

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined under SUPPLEMENTARY INFORMATION below.

DATES: The meeting will be held May 24-26, 2011, from 8:30 a.m. to 5 p.m.

ADDRESSES: The meeting will be held at the Florida Keys Eco-Discovery Center, 35 East Quay Road, Key West, FL 33040; 305-809-4700.

FOR FURTHER INFORMATION CONTACT: Mark Holliday, MAFAC Executive Director; (301) 713-2239 x-120; e-mail: Mark.Holliday@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This agenda is subject to change.

The meeting is convened to hear presentations and discuss policies and guidance on the following topics: Gulf Ecosystem Restoration Task Force; National Ocean Policy, coastal and marine spatial planning, ocean energy and climate change adaptation; fisheries management; quota re-allocation policy; and aquaculture policy implementation. Updates will be presented on NOAA budgets, seafood safety, and recreational fisheries engagement. The meeting will include discussion of various MAFAC administrative and organizational matters and meetings of the standing subcommittees.

Special Accommodations

These meetings are physically accessible to people with disabilities. Requests for sign language interpretation or other auxiliary aids should be directed to Mark Holliday, MAFAC Executive Director; (301) 713-2239 x120 by May 13, 2011.

Dated: May 2, 2011.
Eric C. Schwaab,
Assistant Administrator for Fisheries, National Marine Fisheries Service.

[FR Doc. 2011-11147 Filed 5-5-11; 8:45 am]

BILLING CODE 3510-22-P